COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 7/23/2012.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

Revision

On 5/25/2012 (77 FR 31335-31336), the Committee for Purchase From People Who Are Blind or Severely Disabled proposed the addition of two Containerized Unitized Bulk Equipment (CUBE) Lifeliners, NSNs 1670-01-598-5067 and 1670-01-598-5071 to its Procurement List.

The Coverage statement associated with this proposed addition should have read as follows:

Coverage: C-List for 100% of the requirement of the Department of the Army, as aggregated by the Army Contracting Command—Aberdeen Proving Ground, Natick Contracting Division, Natick, MA.

As previously announced, comments on the proposed addition must be received on or before June 25, 2012.

Additions

On 4/13/2012 (77 FR 22289-22290) and 4/20/2012 (77 FR 23665-23666), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

Floor Mat, Anti-Skid Backing

NSN: 7220-01-411-1515—3' x 5', Slate/Gray.

NSN: 7220-01-411-2979—3' x 5', Chestnut/Dark Brown.

NSN: 7220-01-411-2980—4' x 6', Chestnut/Dark Brown.

NPA: Wiscraft, Inc., Milwaukee, WI.

Contracting Activity: General Services Administration, Fort Worth, TX.

Coverage: A-List for the Total Government Requirement as aggregated by the General Services Administration.

NSN: MR 353—Scrubber with Handle, Nylon Mesh, All Purpose, 2PK.

NSN: MR 355—Set, Serving Set, Party Traveling.

NSN: MR 927—Set, Brush and Caddy, Contour Bowl.

NPA: Industries for the Blind, Inc., West Allis, WI.

Contracting Activity: Military Resale—Defense Commissary Agency, Fort Lee, VA.

Coverage: C-List for the requirements of military commissaries and exchanges as aggregated by the Defense Commissary Agency.

Services

Service Type/Locations:

Latrine Services, Stryker Overflow Lot, Railroad Avenue, Joint Base Lewis-McChord, WA.

Stryker National Logistics Center, Building 2701 C Street, SW., Auburn, WA.

NPA: Skookum Educational Programs, Bremerton, WA.

Contracting Activity: Dept of the Army, W4GG HQ US Army TACOM, Warren, MI.

Service Type/Location: Mailroom Operations, Official Mail Distribution Center, 1 Rock Island Arsenal, Building 132, Rock Island, IL.

NPA: The Arc of the Quad Cities Area, Rock Island, IL.

Contracting Activity: Dept of the Army, W4MM USA Joint Munitions CMD, Rock Island, IL.

Service Type/Location: Custodial Service, U.S. Army Corps of Engineers, U.S. Army Engineer Research and Development Center (ERDC), Lewisville Aquatic Ecosystem Research Facility (LAERF), 201 E. Jones Street, Lewisville, TX.

NPA: Rising Star Resource Development Corporation, Dallas, TX.

Contracting Activity: Dept of The Army, W2R2 USA Engr R and D CTR, Vicksburg, MS.

Barry S. Lineback,
Director, Business Operations.

[FR Doc. 2012-15269 Filed 6-21-12; 8:45 am]

BILLING CODE 6353-01-P